ENVIRONMENTAL PROTECTION AGENCY

[ER-FRL-6626-3]

Environmental Impact Statements; Notice of Availability

Responsible Agency: Office of Federal Activities, General Information (202) 564-7167 or www.epa.gov/oeca/ofa.

Weekly receipt of Environmental Impact Statements

Filed January 28, 2002 Through February 01, 2002

Pursuant to 40 CFR 1506.9.

EIS No. 020042, DRAFT EIS, FTA, PA, Schuylkill Valley Corridor Metro Improvements, Reading to the City of Philadelphia, Funding, Philadelphia, Montgomery, Chester and Berks Counties, PA, Comment Period Ends: March 25, 2002, Contact: Keith Lynch (215) 656-7100.

EIS No. 020043, Final EIS, COE, TN, Adoption—Upper Tennessee River Navigation Improvement Project, Rehabilitation and/or Construction, Chickamauga Dam—Navigation Lock Structural Improvement Alternative, Funding, NPDES Permit, Coast Guard Bridge permit and COE Section 404 Permits, Tennessee River, Hamilton County, TN, Contact: Wayne Easterling (615) 736-7847. Corps of Engineers (COE) has adopted the Tennessee Valley Authority's #960147 filed 03-29-1996. COE was a Cooperating Agency for the above final EIS. Recirculation of the document is not necessary under Section 1506.3(c) of the Council on Environmental Quality Regulations.

EIS No. 020044, DRAFT SUPPLEMENTS, FRC, WA, Condit Hydroelectric (No. 2342) Project, Updated Information on Application to Amend the Current License to Extend the License Term to October 1, 2006, White Salmon River, Skamania and Klickitat Counties, WA, Comment Period Ends: March 25, 2002, Contact: Nicholas Jayjack (202) 219-2825. This document is available on the Internet at: http://www.ferc.gov

EIS No. 020045, FINAL EIS, FHW, NM, US 70 Corridor Improvement, Between Ruidoso Downs to Riverside, Implementation, Right-of-Way Acquisition, Lincoln County, NM, Wait Period Ends: March 11, 2002, Contact: Gregory D. Rawlings (505) 820-2027.

EIS No. 20046, DRAFT EIS, FHW, MN, Trunk Highway (TH) 169 Improvement Project, Propose Improvements to TH-169 from TH-27 North of the City of Onamia to the Intersection of TH-18 and TH-6 Northwest of the City of Garrison, Crow Wing and Mille Lacs Counties, MN, Comment Period Ends: March 25, 2002, Contact: Cheryl Martin (651) 291-6120.

EIS No. 020047, DRAFT SUPPLEMENT, FRC, WA, Irene Creek Hydroelectric Project, (FERC No. 10100-002) and Anderson Creek Hydroelectric Project (FERC No. 10416-003), Construction and Operation, Issuing of a Amended License Applications, Skagit and Whatcom Counties, WA, Comment Period Ends: March 25, 2002, Contact: Alan Mitchnik (202) 219-2826. This document is available on the Internet at: http://rimsweb1.ferc.gov/rims.q~rp2 ~getImagePages~1845215 ~44~912~1~50.

EIS No. 020048, DRAFT EIS, FHW, WA, Vancouver Rail Project, Rail Improvements at the Burlington Northern and Santa Fe Rail Yard, Possible Elimination of the West 39th Street At-Grade Crossing, Funding, NPDES Permit, Clark County, WA, Comment Period Ends: March 27, 2002, Contact: Daniel Mathis (306) 753-9413.

EIS No. 020049, DRAFT EIS, BPA,WA, Schultz-Hanford Transmission Line Project, Construct a New 500 kilovolt (kV) Transmission Line in Central Washington, north of Hanford connecting to Existing Line at the Schultz Substation, Kittitas, Yakima, Grant and Benton Counties, WA, Comment Period Ends: March 25, 2002, Contact: Nancy A. Wittpenn (503) 230-3297. This document is available on the Internet at: www.efw.bpa.gov

EIS No. 020050, DRAFT FINAL EIS, FHW, WY, Wyoming Forest Highway 23 Project, Louis Lake Road also known as Forest Development Road 300, Improvements from Bruce's Parking Lot to Worthen Meadow Road, Funding, NPDES Permits and COE Section 404 Permit, Shoshone National Forest, Fremont County, WY, Wait Period Ends: March 11, 2002, Contact: Rick Cushing (303) 716-2138.

EIS No. 020051, REVISED DRAFT EIS, FHW, WA, WA-509 Corridor Completion/I-5/South Access Road Project, Improvements to WA-509 Extension, Enhancement of Southern Access to and from Sea-Tac International Airport and I-5 Improvements between South 210th Street and 310th Street, Funding, US COE Section 404 Permit, NPDES Permit, King County, WA, Comment Period Ends: March 25, 2002, Contact: Jim Leonard (360) 753-9480.

EIS No. 020052, DRAFT EIS, TVA, TN, NC, Nolichucky Reservoir Flood Remediation Project, To Identify and Evaluate Ways to Address Flooding Effects of Nolichucky Dam and the Accumulated Sediment in Nolichucky Reservoir on Land and Property Not Owned by the Federal Government, NPDES Permit and US COE 404 Permit, Several Counties in TN and NC, Comment Period Ends: March 29, 2002, Contact: Susan Fuhr (423) 587-5600.

EIS No. 020053, FINAL EIS, AFS, UT, Solitude Mountain Resort Master Development Plan Update (MDP), Implementation, Special-Use-Permit, US COE 404 Permit, Wasatch-Cache National Forest, Salt Lake County, UT, Wait Period Ends: March 11, 2002, Contact: Steve Scheid (801) 733-2689.

EIS No. 020054, DRAFT EIS, BIA, CA, Agua Caliente Indian Reservation Project, Proposed Section 14 Specific Plan, Master Development Plan, Agua Caliente Band of Cahulla Indians, City of Palm Springs, Riverside County, CA, Comment Period Ends: April 12, 2002, Contact: William Allan (916) 978-6043.

EIS No. 020055, DRAFT SUPPLEMENT, COE, TN, Chickamauga Dam Lock Feasibility Study, New and Updated Information, Incorporates the 1995 FEIS by Reference, NPDES Permit, U.S. Coast Guard Bridge Permit and Funding, Tennessee River, Hamilton County, TN, Comment Period Ends: March 25, 2002, Contact: Wayne Easterling (615) 736-7847.

Amended Notices

EIS No. 010305, DRAFT SUPPLEMENT, FAA, MN, Flying Cloud Airport, Substantive Changes to Alternatives and New Information, Extension of the Runways 9R/27L and 9L/27R, Long-Term Comprehensive Development, In the City of Eden Prairie, Hennepin County, MN, Comment Period Ends: March 29, 2002, Contact: Glen Orcutt (612) 713-4354.

Revision of FR Notice published on 09/28/2001: CEQ Review Period Ending on 12/14/2001 has been Extended to 03/29/2002.

Dated: February 5, 2002.
Joseph C. Montgomery,
Director, NEPA Compliance Division, Office of Federal Activities.

[FR Doc. 02-3125 Filed 2-7-02; 8:45 am]

BILLING CODE 4140-01-M